DEPARTMENT OF ENERGY

Federal Energy Regulatory Commission

[Project No. 8657, Project No. 9840]

Virginia Hydrogeneration and Historical Society, L.C.; Appomattox L.P.; Notice on Appomattox River Fish Passage Technical Workshop

February 7, 2006.

On February 22, 2006, Commission staff will be conducting a fish passage technical workshop to discuss fish passage on the Appomattox River as it relates to Commission projects, which include Harvell Dam Project (FERC No. 8657), Battersea Dam Project (FERC No. 8535) ¹ and the Appomattox River Project (FERC No. 9840). The meeting will allow Commission staff to discuss: (1) The status of fish passage at the various dams on the Appomattox River, (2) associated costs incurred to date for fish passage at the various dams; and (3) proposals and/or goals for any remaining obstructions to fish passage on the Appomattox River.

¹ See Order Accepting Final Surrender of License issued November 23, 2005, 113 FERC ¶ 62,153 (2005).

The meeting will specifically focus on the above topics to clarify information currently on file with the Commission. Commission staff will review the record on file and be prepared to lead a discussion using information that has been filed by the various parties concerning fish passage, passage status at the various dams, and the associated costs of providing passage. Commission staff ask all parties that plan to participate to be prepared to support statements with documented information.

The meeting will be held on February 22, 2006, at the Hampton Inn, 5103 Plaza Drive, Hopewell, Virginia 23860, at 9 a.m. (EST). Intervenors and other parties interested in this issue are invited to participate if they so desire.

Any questions about this notice should be directed to Blake Condo at (202) 502-8914 or via e-mail at blake.condo@ferc.gov or Bob Fletcher at (202) 502-8901 or via e-mail at robert.fletcher@ferc.gov.

Magalie R. Salas,
Secretary.

[FR Doc. E6-2042 Filed 2-13-06; 8:45 am]

BILLING CODE 6717-01-P